DEPARTMENT OF HOMELAND SECURITY

U.S. Citizenship and Immigration Services

8 CFR Part 299

[CIS No. 2302-05; DHS Docket No. USCIS-2005-0030]

RIN 1615-AA16

Special Immigrant and Nonimmigrant Religious Workers; Correcting Amendment

AGENCY: U.S. Citizenship and Immigration Services, DHS.

ACTION: Correcting amendment.

SUMMARY: With this amendment, the Department of Homeland Security (DHS) corrects an error in the amendatory text from the Special Immigrant and Nonimmigrant Religious Workers final rule published in the Federal Register on November 26.

DATES: Effective Date: This correction is effective December 9, 2008, and is applicable beginning November 26, 2008.

FOR FURTHER INFORMATION CONTACT: Emisa Tamanaha, Adjudications Officer, Business and Trade Services, Service Center Operations, U.S. Citizenship and Immigration Services, Department of Homeland Security, 111 Massachusetts Avenue, NW., 3rd Floor, Washington, DC 20529, telephone (202) 272-1505.

SUPPLEMENTARY INFORMATION:

Need for Correction

On November 26, 2008, U.S. Citizenship and Immigration Services (USCIS) published a final rule at 73 FR 72275 improving the Department of Homeland Security's ability to detect and deter fraud and other abuses in the religious worker program. This rule included revisions to two public use forms:

• Form I-360, Petition for Amerasian, Widow(er) or Special Immigrant, and

• Form I-129, Petition for a Nonimmigrant Worker.

USCIS inadvertently left out the form edition dates under 8 CFR 299.1 for Forms I-360 and I-129. This document corrects this error.

List of Subjects

8 CFR Part 299

Immigration, Reporting and recordkeeping requirements.

Accordingly, chapter I of title 8 of the Code of Federal Regulations is amended as follows:

PART 299—IMMIGRATION FORMS

1. The authority citation for part 299 continues to read as follows:

Authority: 8 U.S.C. 1101 and note, 1103; 8 CFR part 2.

2. Section 299.1 is amended by revising the entries for Forms “1-129 “and “I-360” to read as follows:

§ 299.1 Prescribed forms.

* * * * *

Form No. | Edition date | Title and description
* * * * * * *
I-129 | 11-26-08 | Petition for a Nonimmigrant Worker.
* * * * * * *
I-360 | 11-26-08 | Petition for Amerasian, Widow(er) or Special Immigrant.

* * * * *

Dated: December 4, 2008.
Sunday A. Aigbe,
Chief, Regulatory Management Division, Office of the Executive Secretariat, U.S. Citizenship and Immigration Services.

[FR Doc. E8-29085 Filed 12-8-08; 8:45 am]

BILLING CODE 9111-97-P